DEPARTMENT OF JUSTICE

Drug Enforcement Administration

[Docket No. DEA-827]

Importer of Controlled Substances Application: Rhodes Technologies

AGENCY: Drug Enforcement Administration, Department of Justice.

ACTION: Notice of application.

SUMMARY: Rhodes Technologies has applied to be registered as an importer of basic class(es) of controlled substance(s). Refer to Supplemental Information listed below for further drug information.

DATES: Registered bulk manufacturers of the affected basic class(es), and applicants therefore, may file written comments on or objections to the issuance of the proposed registration on or before May 26, 2021. Such persons may also file a written request for a hearing on the application on or before May 26, 2021.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All request for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on March 15, 2021, Rhodes Technologies, 498 Washington Street, Coventry, Rhode Island 02816, applied to be registered as an importer of the following basic class(es) of controlled substance(s):

Controlled substance | Drug code | Schedule
Tetrahydrocannabinols | 7370 | I
Methylphenidate | 1724 | II
Oxycodone | 9143 | II
Hydromorphone | 9150 | II
Hydrocodone | 9193 | II
Morphine | 9300 | II
Opium, Raw | 9600 | II
Oxymorphone | 9652 | II
Poppy Straw Concentrate | 9670 | II

The company plans to import Opium, Raw (9600), and Poppy Straw Concentrate (9670) in order to bulk manufacture controlled substances in Active Pharmaceutical Ingredient (API) form. The company distributes the manufactured APIs in bulk to its customers.

The company plans to import the other listed controlled substances for internal reference standards use only. The comparisons of foreign reference standards to the company's domestically manufactured API will allow the company to export domestically manufactured API to foreign markets.

William T. McDermott,
Assistant Administrator.

[FR Doc. 2021-08539 Filed 4-23-21; 8:45 am]

BILLING CODE 4410-09-P